NATIONAL SCIENCE FOUNDATION

Request for Information

AGENCY: National Science Foundation.

ACTION: Request for Information.

SUMMARY: The Foundations for Evidence-Based Policymaking Act of 2018 requires federal agencies to develop evidence-building plans to identify and address questions relevant to Agency policies, programs, regulations, management, and operations. Through this Request for Information (RFI), the National Science Foundation (NSF), seeks to expand ongoing efforts to identify priority questions that can guide evidence-building activities by soliciting input from the public.

DATES: Please send comments on or before December 31, 2020. Comments received after that date will be considered to the extent practicable. Send comments to the address below.

ADDRESSES: Submit comments to Suzanne H. Plimpton, Reports Clearance Officer, splimpto@nsf.gov. Individuals who use a telecommunications device for the deaf (TDD) may call the Federal Information Relay Service (FIRS) at 1.800.877.8339, 24 hours a day, 7 days a week, 365 days a year (including Federal holidays).

SUPPLEMENTARY INFORMATION: The Foundations for Evidence-Based Policymaking Act of 2018 (Evidence Act, Pub. L. 115-435) requires federal agencies to develop evidence-building plans to identify and address questions relevant to Agency policies, programs, regulations, management, and operations.

Invitation to Comment: NSF invites comments from the public to inform the development of NSF's evidence-building plan. NSF invites suggestions in many forms, as questions to be answered, hypotheses to be tested, or problems to be investigated. NSF will analyze information collected from this RFI to continue developing its evidence-building plan.

1.0 Background

NSF was created “to promote the progress of science; to advance the national health, prosperity, and welfare; to secure the national defense . . .” (1950, as amended). NSF seeks to achieve these goals through an integrated strategy that advances the frontiers of knowledge; cultivates a world-class, broadly inclusive science and engineering workforce; expands the scientific literacy of all citizens; builds the nation's research capability through investments in advanced instrumentation and facilities; and supports excellence in science and engineering research and education. NSF by the numbers provides a brief overview of NSF's work. NSF is committed to evaluating the efficacy and efficiency of its strategy, leveraging research and evaluation to help the Agency achieve its mission.

2.0 Request for Information

Through this RFI, NSF is soliciting suggestions from a broad array of stakeholders across public and private sectors that may be familiar with or interested in the work of NSF and wish to volunteer suggestions to pursue studies that could help NSF improve its efficacy or efficiency. NSF invites suggestions in many forms—as questions to be answered, hypotheses to be tested, or problems to be investigated—and focused on any area of NSF's work, including policy, programs, and operations. Responses to this RFI will inform NSF's ongoing development of a set of questions that will guide evidence-building activities, such as program evaluations and systems to monitor participation in NSF programs. This RFI is for information and planning purposes only and should not be construed as a solicitation or as an obligation on the part of NSF.

Dated: October 2, 2020.
Suzanne H. Plimpton,
Reports Clearance Officer, National Science Foundation.

[FR Doc. 2020-22141 Filed 10-6-20; 8:45 am]

BILLING CODE 7555-01-P